DEPARTMENT OF COMMERCE

National Oceanic and Atmospheric Administration

Proposed Information Collection; Comment Request; Economic Value of the Research in the Olympic Coast and Stellwagen Bank National Marine Sanctuaries

AGENCY: National Oceanic and Atmospheric Administration (NOAA), Commerce.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before July 10, 2017.

ADDRESSES: Direct all written comments to Jennifer Jessup, Departmental Paperwork Clearance Officer, Department of Commerce, Room 6616, 14th and Constitution Avenue NW., Washington, DC 20230 (or via the Internet at pracomments@doc.gov).

FOR FURTHER INFORMATION CONTACT: Requests for additional information or copies of the information collection instrument and instructions should be directed to Dr. Danielle Schwarzmann 240-533-0706 danielle.schwarzmann@noaa.gov.

SUPPLEMENTARY INFORMATION:

I. Abstract

This request is for a new information collection.

NOAA is conducting research to: (1) Identify if the sanctuary helps to attract research or creates value-added to researchers; (2) estimate the economic impacts (jobs, income, output) supported by research that occurs in sanctuaries because of expenditures occurring within local region. Two sites, Olympic Coast National Marine Sanctuary (OCNMS) and Stellwagen Bank National Marine Sanctuary (SBNMS) will be evaluated. The information will aide in SBNMS and OCNMS condition reports. Further, the research will help to provide baseline data for economic impact and contribution of sanctuaries to local area economies.

The required information will involve surveys of researchers (from profit, non-profit and government agencies including local, state, federal and tribal). Information will be obtained on expenditures, sources of funds, non-market value, type of research, technologies used, use of NOAA equipment, reasons for the chosen location, and the researcher's involvement with sanctuary staff.

ONMS will work to identify all researchers who worked within the sanctuary within the past ten years. This will be the population of interest. Sanctuary site staff, literature reviews and the research permit database will be used to identify the population of researchers for each site.

II. Method of Collection

The survey will be implemented online, and paper versions will also be available.

III. Data

OMB Control Number: 0648-XXXX.

Form Number: None.

Type of Review: Regular submission (new information collection).

Affected Public: Individuals or households; business or other for-profit organizations; state, local or tribal governments.

Estimated Number of Respondents: 400.

Estimated Time per Response: 15-20 minutes for online or paper survey.

Estimated Total Annual Burden Hours: 133.

Estimated Total Annual Cost to Public: $0 in recordkeeping/reporting costs.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Sarah Brabson,
NOAA PRA Clearance Officer.

[FR Doc. 2017-09517 Filed 5-10-17; 8:45 am]

BILLING CODE 3510-NK-P